DEPARTMENT OF JUSTICE

Bureau of Prisons

28 CFR Part 541

[BOP-1083-I]

RIN 1120-AA78

Inmate Discipline: Prohibited Acts: Change in Code Numbers for Agency Tracking Purposes Only

AGENCY: Bureau of Prisons, Justice.

ACTION: Interim final rule.

SUMMARY: This document makes a minor change to a recently published Bureau of Prisons (Bureau) final rule on inmate discipline regarding violations of the Bureau's telephone policy. Before we published the final rule, our prohibited acts code number 406 referred to minor mail and telephone infractions (in the existing low moderate severity level category prohibited act). When we published our final rule, we wished to distinguish minor mail infractions from minor telephone infractions, so we created a new code number, 497, for minor telephone infractions. Code number 406, therefore, covered only minor mail infractions. However, if we use the code number 406 in the Bureau's computer tracking system, that code number will retrieve both mail and telephone minor infractions, instead of only the mail infractions covered by the code number 406. For clarity, therefore, we reserve code number 406 and assign the code number 410 to the prohibited act covering minor mail infractions. This correction, while maintaining the language of 406, as published in the previous rule, only changes the number of that prohibited act to 410. We make this change to be able to more accurately track specific telephone-related acts using code number 497 only or mail-related prohibited acts using code number 410 only.

DATES: Effective: December 18, 2002. Comments: Comments by February 18, 2003.

ADDRESSES: Send comments to the Rules Unit, Office of General Counsel, Bureau of Prisons, 320 First Street, NW., Washington, DC 20534.

FOR FURTHER INFORMATION CONTACT: Sarah Qureshi, Office of General Counsel, Bureau of Prisons, phone (202) 307-2105.

SUPPLEMENTARY INFORMATION: The Bureau makes this minor correction to its final rule published on October 6, 2000 (64 FR 59724), on inmate discipline regarding violations of the telephone policies.

Why Are We Making This Rule Change?

Before we published the October 6th final rule, our prohibited acts code number 406 referred to minor mail and telephone infractions (in the existing low moderate severity level category prohibited act).

When we published the October 6th final rule, we wished to distinguish minor mail infractions from minor telephone infractions, so we created a new code number, 497, for minor telephone infractions. Code number 406, therefore, covered only minor mail infractions.

However, if we use the code number 406 in the Bureau's computer tracking system, that code number will retrieve both mail and telephone minor infractions, instead of only the mail infractions covered by the code number 406.

For clarity, therefore, we reserve code number 406 and assign the code number 410 to the prohibited act covering minor mail infractions. This correction, while maintaining the language of 406, as published in the previous rule, only changes the number of that prohibited act to 410. We make this change to be able to more accurately track specific telephone-related acts using code number 497 only or mail-related prohibited acts using code number 410 only.

Why Are We Making This Change as an Interim Final Rule?

The Administrative Procedure Act (5 U.S.C. 553) allows exceptions to notice-and-comment rulemaking for “(A)interpretive rules, general statements of policy, or rules of agency organization, procedure, or practice; or (B) when the agency for good cause finds * * * that notice and public procedure thereon are impracticable, unnecessary, or contrary to the public interest.”

This rulemaking is exempt from normal notice-and-comment procedures because it is a minor clarification of currently existing Bureau policy. We are modifying our rule to enable us to more accurately track specific prohibited acts using original prohibited act code numbers in our computer tracking system. The language of the prohibited act remains the same, only the code number that refers to it changes.

Because this change reflects current Bureau policy and is a minor clarification of current agency procedure and practice, we find that normal notice-and-comment rulemaking is unnecessary. We are, however, allowing the public to comment on this rule change by publishing it as an interim final rule.

Where To Send Comments

You can send written comments on this rule to the Rules Unit, Office of General Counsel, Bureau of Prisons, 320 First Street, NW., Washington, DC 20534.

We will consider comments received during the comment period before taking final action. We will try to consider comments received after the end of the comment period. In light of comments received, we may change the rule.

We do not plan to have oral hearings on this rule. All the comments received remain on file for public inspection at the above address.

Executive Order 12866

This regulation has been drafted and reviewed in accordance with Executive Order 12866, “Regulatory Planning and Review”, section 1(b), Principles of Regulation. The Director, Bureau of Prisons has determined that this rule is not a “significant regulatory action” under Executive Order 12866, section 3(f), and accordingly this rule has not been reviewed by the Office of Management and Budget.

Executive Order 13132

This regulation will not have substantial direct effects on the States, on the relationship between the national government and the States, or on distribution of power and responsibilities among the various levels of government. Therefore, in accordance with Executive Order 13132, it is determined that this rule does not have sufficient federalism implications to warrant the preparation of a Federalism Assessment.

Regulatory Flexibility Act

The Director of the Bureau of Prisons, in accordance with the Regulatory Flexibility Act (5 U.S.C. 605(b)), has reviewed this regulation and by approving it certifies that this regulation will not have a significant economic impact upon a substantial number of small entities for the following reasons: This rule pertains to the correctional management of offenders committed to the custody of the Attorney General or the Director of the Bureau of Prisons, and its economic impact is limited to the Bureau's appropriated funds.

Unfunded Mandates Reform Act of 1995

This rule will not result in the expenditure by State, local and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

This rule is not a major rule as defined by § 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

Plain Language Instructions

We try to write clearly. If you can suggest how to improve the clarity of these regulations, call or write Sarah Qureshi, Rules Unit, Office of General Counsel, Bureau of Prisons, 320 First Street, NW., Washington, DC 20534, 202-514-6655.

List of Subjects in 28 CFR Part 541

Prisoners.

Kathleen Hawk Sawyer,
Director, Bureau of Prisons.

Under rulemaking authority vested in the Attorney General in 5 U.S.C. 552(a) and delegated to the Director, Bureau of Prisons, we amend part 541 in subchapter C of 28 CFR, chapter V as follows.

Subchapter C—Institutional Management

PART 541—INMATE DISCIPLINE AND SPECIAL HOUSING UNITS

1. The authority citation for part 541 is revised to read as follows:

Authority: 5 U.S.C. 301; 18 U.S.C. 3621, 3622, 3624, 4001, 4042, 4081, 4082 (Repealed in part as to offenses committed on or after November 1, 1987), 4161-4166 (Repealed as to offenses committed on or after November 1, 1987), 5006-5024 (Repealed October 12, 1984 as to offenses committed after that date), 5039; 28 U.S.C. 509, 510.

2. In § 541.13, Table 3 is amended by redesignating the text of code 406 as 410 under the low moderate category, and adding the phrase “(Not to be used)” after code 406.

§ 541.13 Prohibited acts and disciplinary severity scale.

* * * * *

Table 3.—Prohibited Acts and Disciplinary Severity Scale
Code | Prohibited acts | Sanctions
* * * * *
LOW MODERATE CATEGORY

* * * * *

406 (Not to be used)

* * * * *

[FR Doc. 02-31661 Filed 12-17-02; 8:45 am]

BILLING CODE 4410-05-P